DEPARTMENT OF COMMERCE

National Oceanic and Atmospheric Administration

RIN 0648-XV118

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee will hold a meeting.

DATES: The meeting will be held on Wednesday, November 13, 2019, from 9 a.m. through 12 p.m. See SUPPLEMENTARY INFORMATION for agenda details.

ADDRESSES: The meeting will take place over webinar with a telephone-only connection option. Details on how to connect to the webinar by computer and by telephone will be available at: http://www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is for the EOP Committee to review and provide feedback on an updated draft summer flounder conceptual model, supporting data availability and draft management questions. The development of the summer flounder conceptual model is part of the Council's Ecosystem Approach to Fisheries Management (EAFM) decision framework and considers the high priority risk factors affecting summer flounder and its fisheries. The EOP Committee reviewed an earlier draft model in September 2019 and provided a number of recommendations for the technical workgroup to consider and address in a revised model. The EOP Committee will review these updates and develop recommendations for full Council consideration at the December 2019 Council meeting. A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: October 23, 2019.
Tracey L. Thompson,
Acting Deputy Director, Office of Sustainable Fisheries, National Marine Fisheries Service.

[FR Doc. 2019-23447 Filed 10-25-19; 8:45 am]

BILLING CODE 3510-22-P